DEPARTMENT OF TRANSPORTATION

Federal Aviation Administration

Notice of Meeting of the National Parks Overflights Advisory Group Aviation Rulemaking Committee

ACTION: Notice of meeting.

SUMMARY: The Federal Aviation Administration (FAA) and the National Park Service (NPS), in accordance with the National Parks Air Tour Management Act of 2000, announce the next meeting of the National Parks Overflights Advisory Group Aviation Rulemaking Committee (ANPOAG ARC). This notice informs the public of the date, location, and agenda for the meeting.

Date and Location: The NPOAG ARC will meet from November 28-30, 2006, at the Zion National Park Lodge, Zion National Park, Springdale, Utah 84767, phone number (435) 772-0211. The meeting will begin at 8 a.m. on Tuesday, November 28, 2006.

FOR FURTHER INFORMATION CONTACT: Barry Brayer, Manager, Executive Resource Staff, Western-Pacific Region, Federal Aviation Administration, 15000 Aviation Blvd., Hawthorne, CA 90250, telephone: (310) 725-3800, Barry.Brayer@faa.gov, or Karen Trevino, National Park Service, Natural Sounds Program, 1201 Oakridge Dr., Suite 100, Ft. Collins, CO 80525, telephone (970) 225-3563, Karen_Trevino@nps.gov.

SUPPLEMENTARY INFORMATION:

Background

The National Parks Air Tour Management Act of 2000, enacted on April 5, 2000, as Public Law 106-181 (Pub. L. 106-181), required the establishment of a National Parks Overflights Advisory Group (NPOAG) within one year after its enactment. The NPOAG was to be a balanced group representative of general aviation, commercial air tour operations, environmental concerns, and Indian tribes. The duties of the NPOAG include providing advice, information, and recommendations to the NPS Director and the FAA Administrator, on implementation of Public Law 106-181, quiet aircraft technology, other measures that might accommodate interests to visitors to national parks, and, at the request of the Director and Administrator, on safety, environmental, and other issues related to commercial air tour operations over national parks or tribal lands.

On March 12, 2001, the FAA and NPS announced the establishment of the NPOAG (48 FR 14429). On October 10, 2003, the Administrator signed Order No. 1110-138 establishing the NPOAG as an aviation rulemaking committee (ARC) and on January 20, 2006, the Administrator updated Order No. 1110.138 and signed Order No. 1110.138A (71 FR 16610). The advisory group has held nine meetings. The current members of the NPOAG ARC are Heidi Williams (general aviation), Matthew Zuccaro, Elling Halvorson, and Alan Stephen (commercial air tour operations), Don Barger, Chip Dennerlein, Dr. Gregory A. Miller and Mark Peterson (environmental interests), and Rory Majenty and Richard Deertrack (Native American tribes).

Agenda for the November 28-30, 2006 Meeting

The agenda for the meeting will include, but is not limited to, the following review and approval of previous meeting minutes; discussion of Interim Operating Authority (IOA) issues; update on ongoing Air Tour Management Program (ATMP) projects; NPOAG Subgroup assignments and reports; discussion of Mt. Rushmore Draft Environmental Assessment (EA).

Attendance at the Meeting

Although this is not a public meeting, interested persons may attend. Because seating is limited, if you plan to attend, please contact one of the persons listed under FOR FURTHER INFORMATION CONTACT so that meeting space may be made to accommodate all attendees.

Record of the Meeting

If you cannot attend the meeting, a summary record of the meeting will be made available under the program information section of the FAA ATMP Web site at http://www.atmp.faa.gov or through the Executive Resource Staff, Western-Pacific Region, Federal Aviation Administration, 15000 Aviation Blvd., Hawthorne, CA 90250, telephone: (310) 725-3800.

Issued on October 20, 2006.
Barry S. Brayer,
Executive Resource Manager, Western-Pacific Region.

[FR Doc. 06-8950 Filed 10-27-06; 8:45 am]

BILLING CODE 4910-13-M